DEPARTMENT OF DEFENSE

Department of the Air Force

[Docket ID: USAF-2010-0023]

Privacy Act of 1974; System of Records

AGENCY: Department of Defense (DoD).

ACTION: Notice to add a system of records.

SUMMARY: The Department of the Air Force is proposing to add a system of records notice in its existing inventory of records systems subject to the Privacy Act of 1974, (5 U.S.C. 552a), as amended.

DATES: The proposed action will be effective on November 1, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force systems of records notices subject to the Privacy Act of 1974, (5 U.S.C. 552a), as amended, have been published in the Federal Register and are available from the Department of the Air Force Privacy Office, Air Force Privacy Act Office, Office of Warfighting Integration and Chief Information officer, ATTN: SAF/XCPPI, 1800 Air Force Pentagon, Washington DC 20330-1800.

The proposed systems report, as required by 5 U.S.C. 552a(r) of the Privacy Act, were submitted on September 17, 2010, to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996; 61 FR 6427).

Dated: September 24, 2010.
Mitchell S. Bryman,
Alternate OSD Federal Register Liaison Officer, Department of Defense.

F065 AF FMP B

System name:

Customer Relationship Management.

System location:

Equinix Elk Grove Village IBX Center, 1945 Lunt Avenue, Elk Grove Village, IL 60007-5603; and 2700 Doolittle Drive, Ellsworth Air Force Base, SD 57706-4854.

Categories of individuals covered by the system:

Current Air Force military personnel; Active Duty, Reserve, Air National Guard, retirees, and their dependents.

Categories of records in the system:

Information collected consists of full name, Service Number, Social Security Number (SSN), date of birth, rank, date of rank, Active Federal Service date, projected rank, duty e-mail, organization name, base name, employment information, full resident address to include city, state, and country, and phone number.

Authority for maintenance of the system:

5 U.S.C. 301, Departmental Regulations; 10 U.S.C. 8032, The Air Staff, general duties; DoD 7000.14R, Volume 7A, Military Pay Policy and Procedures—Active Duty and Reserve Pay; 37 U.S.C. 404, Travel and transportation allowances: general; The Joint Federal Travel Regulations, Volume 1, Uniformed Service Members; The Joint Travel Regulations, Volume 2, DoD Civilian Personnel; DoD Directive 5154.29, DoD Pay and Allowances Policy and Procedures; DoD Financial Management Regulation (DoDFMR) 7000.14-R, Volume 9; Travel Policy and Procedures; Air Force Instruction 65-114, Travel-Policy and Procedures for Financial Services Offices and Finance Offices-Reserve Component; Air Force Manual 65-116 V2, Defense Joint Military Pay System (DJMS) Unit Procedures Excluding FSO; and E.O. 9397 (SSN), as amended.

Purpose:

The purpose of the Customer Relationship Management system is to support Air Force members and their dependents' queries about the status and disposition of certain pay and travel expense reimbursement transactions being processed by the U.S. Air Force Financial Services Center (AFFSC).

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Air Force's compilation of systems of records notices also apply to this system.

Policies and practices for storing, retrieving, accessing, retaining and disposing of records in the system:

Storage:

Electronic storage media.

Retrievability:

By individual's name, Social Security Number (SSN), and/or Service Number.

Safeguards:

To safeguard against unauthorized access, technical, physical and administrative security procedures are in place. Individuals' privacy is protected throughout the information lifecycle; the information is collected in secure file transfers in an encrypted state and retained in a database located at a secure facility behind a firewall. In addition, Customer Relationship Management incorporates business rules limiting access to privacy data in accordance with the roles and responsibilities assigned to them. These rules include the enforcement of need-to-know access controls. Further, personnel in the Air Force Financial Services Center and those who maintain the commercial facility are required to undergo background checks and have proper security clearances in place for the duration of their work with the Customer Relationship Management system.

Retention and disposal:

Accountability records documenting the issue or receipt of accountable documents are destroyed 1 year after all entries are cleared. Records are destroyed by erasing from electronic storage media online and offline.

System manager(s) and address:

Director, Information Systems and Technology, SAF/FMPSA, 1602 B-Wing Suite 327, Andrews AFB 20762-0001.

Notification procedure:

Individuals seeking to determine whether information about themselves is contained in this system should address written inquiries to the Director, Information Systems and Technology, SAF/FMPSA, 1602 B-Wing Suite 327, Andrews AFB 20762-0001.

For verification purposes, individual should provide their full name, Social Security Number (SSN), any detail, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address requests to the Director, Information Systems and Technology, SAF/FMPSA, 1602 B-Wing Suite 327, Andrews AFB 20762-0001.

For verification purposes, individuals should provide their full name, Social Security Number (SSN), any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

Contesting record procedures:

The Air Force rules for access to records, and for contesting and appealing initial agency determinations by the individual concerned are published in Air Force Instruction 33-332, Privacy Act Program, 32 CFR Part 806b, or may be obtained from the system manager.

Record source categories:

From individuals by interactive interview.

Exemptions claimed for the system:

None.

[FR Doc. 2010-24474 Filed 9-29-10; 8:45 am]

BILLING CODE 5001-06-P